DEPARTMENT OF AGRICULTURE

Animal and Plant Health Inspection Service

[Docket No. APHIS-2008-0114]

Notice of Request for Revision and Extension of Approval of an Information Collection; State-Federal Brucellosis Eradication Program

AGENCY: Animal and Plant Health Inspection Service, USDA.

ACTION: Revision and extension of approval of an information collection; comment request.

SUMMARY: In accordance with the Paperwork Reduction Act of 1995, this notice announces the Animal and Plant Health Inspection Service's intention to request a revision and extension of approval of an information collection associated with the State-Federal Brucellosis Eradication Program.

DATES: We will consider all comments that we receive on or before January 5, 2009.

ADDRESSES: You may submit comments by either of the following methods:

• Federal eRulemaking Portal: Go to http://www.regulations.gov/fdmspublic/component/main?main=DocketDetail&d=APHIS-2008-0114 to submit or view comments and to view supporting and related materials available electronically.

• Postal Mail/Commercial Delivery: Please send two copies of your comment to Docket No. APHIS-2008-0114, Regulatory Analysis and Development, PPD, APHIS, Station 3A-03.8, 4700 River Road Unit 118, Riverdale, MD 20737-1238. Please state that your comment refers to Docket No. APHIS-2008-0114.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the State-Federal Brucellosis Eradication Program, contact Dr. Debra Donch, Senior Staff Veterinarian, Ruminant Health Programs, National Center for Animal Health Programs, VS, APHIS, 4700 River Road Unit 43, Riverdale, MD 20737; (301) 734-5952. For copies of more detailed information on the information collection, contact Mrs. Celeste Sickles, APHIS' Information Collection Coordinator, at (301) 851-2908.

SUPPLEMENTARY INFORMATION: Title: State-Federal Brucellosis Eradication Program.

OMB Number: 0579-0047.

Type of Request: Revision and extension of approval of an information collection.

Abstract: Under the Animal Health Protection Act (7 U.S.C. 8301 et seq.), the Animal and Plant Health Inspection Service (APHIS) of the United States Department of Agriculture is authorized, among other things, to prohibit or restrict the importation and interstate movement of animals and animal products to prevent the introduction into and dissemination within the United States of animal diseases and pests and for eradicating such diseases when feasible.

Brucellosis is a contagious disease that primarily affects cattle, bison, and swine. It causes the loss of young through spontaneous abortion or birth of weak offspring, reduced milk production, and infertility. The continued presence of brucellosis in a herd seriously threatens the health of other animals. Brucellosis has caused devastating losses to farmers in the United States over the last century.

The State-Federal Brucellosis Eradication Program, a national cooperative program, is working to eradicate this serious disease of livestock from the United States. The program uses a system of State and area classifications, movement restrictions, screening programs, extensive epidemiological investigations, and other measures to prevent its spread and eradicate the disease.

These measures require the use of many information collection activities and associated forms, including applications for brucellosis classification or reclassification of a State or area, certified brucellosis-free herd, or validated brucellosis-free herd; monthly reports of brucellosis program and surveillance activities; quarterly reports of swine brucellosis eradication; brucellosis test records; reports of backtags applied; brucellosis ring test rack charts and patron lists; calfhood vaccination records; field investigations of brucellosis market test reactors; logs for market cattle test reactors; reports of epidemiologic investigations of brucellosis reactor herds; permits for movement of restricted animals; appraisals and indemnity claims for animals destroyed; justifications (facsimile reports) for herd depopulation; agreements for complete herd depopulation; certificates of veterinary inspection; and quarantine and quarantine release forms.

These information collection activities are essential in determining the brucellosis status of an area and helping herd owners by allowing the timely detection and elimination of a serious disease.

Four Office of Management and Budget (OMB) forms (currently approved under OMB number 0579-0032) are being added to this collection for use in the State-Federal brucellosis eradication program: VS 4-24, Calfhood Vaccination Record (short form); VS 4-26, Calfhood Vaccination Record (long form); VS 4-33, Brucellosis Test Record; and VS 4-54, Brucellosis Test Record—Market Cattle Testing Program. After OMB approves the burden described in this notice, OMB number 0579-0047 will be assigned to all associated forms.

We are asking OMB to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.3742576 hours per response.

Respondents: Hobby and commercial livestock farm owners and/or managers; animal agriculture-related business owners and/or managers; accredited veterinarians; animal agriculture-related agencies and organizations; breed registry agencies; agriculture extension agents; fair and exhibition officials; owners, operators, and/or managers of livestock markets; livestock dealers, owners, operators, and/or managers of slaughter establishments and dairy plants; and State animal health officials and laboratory personnel.

Estimated annual number of respondents: 117,446.

Estimated annual number of responses per respondent: 10.023508.

Estimated annual number of responses: 1,177,221.

Estimated total annual burden on respondents: 440,584 hours. (Due to averaging, the total annual burden hours may not equal the product of the annual number of responses multiplied by the reporting burden per response.)

All responses to this notice will be summarized and included in the request for OMB approval. All comments will also become a matter of public record.

Done in Washington, DC, this 30th day of October 2008.
Kevin Shea,
Acting Administrator, Animal and Plant Health Inspection Service.

[FR Doc. E8-26386 Filed 11-4-08; 8:45 am]

BILLING CODE 3410-34-P